SUSQUEHANNA RIVER BASIN COMMISSION

Projects Approved for Consumptive Uses of Water

AGENCY: Susquehanna River Basin Commission.

ACTION: Notice.

SUMMARY: This notice lists the projects approved by rule by the Susquehanna River Basin Commission during the period set forth in DATES.

DATES: March 1-31, 2017.

ADDRESSES: Susquehanna River Basin Commission, 4423 North Front Street, Harrisburg, PA 17110-1788.

FOR FURTHER INFORMATION CONTACT: Jason E. Oyler, General Counsel, telephone: (717) 238-0423, ext. 1312; fax: (717) 238-2436; email: joyler@srbc.net. Regular mail inquiries may be sent to the above address.

SUPPLEMENTARY INFORMATION: This notice lists the projects, described below, receiving approval for the consumptive use of water pursuant to the Commission's approval by rule process set forth in 18 CFR 806.22(e) and § 806.22(f) for the time period specified above:

Approvals by Rule Issued Under 18 CFR 806.22(e)

1. Mt. Carmel Cogen, Inc., ABR-201703001, Mt. Carmel Township, Northumberland County, Pa.; Consumptive Use of Up to 1.370 mgd; Approval Date: March 1, 2017.

Approvals by Rule Issued Under 18 CFR 806.22(f)

1. Chief Oil & Gas, LLC, Pad ID: Tague East Drilling Pad, ABR-201208024.R1, Lemon Township, Wyoming County, Pa.; Consumptive Use of Up to 2.0000 mgd; Approval Date: March 3, 2017.

2. Chesapeake Appalachia, LLC, Pad ID: Borek, ABR-201208021.R1, Auburn Township, Susquehanna County, Pa.; Consumptive Use of Up to 7.5000 mgd; Approval Date: March 6, 2017.

3. EOG Resources, Inc., Pad ID: WOLFE B Pad, ABR-201203002.R1, Athens Township, Bradford County, Pa.; Consumptive Use of Up to 4.9990 mgd; Approval Date: March 6, 2017.

4. SWN Production Company, LLC, Pad ID: TONYA EAST, ABR-201204012.R1, New Milford and Great Bend Townships, Susquehanna County, Pa.; Consumptive Use of Up to 4.9990 mgd; Approval Date: March 6, 2017.

5. SWN Production Company, LLC, Pad ID: Seamans Pad, ABR-201204022.R1, Harford Township, Susquehanna County, Pa.; Consumptive Use of Up to 4.9990 mgd; Approval Date: March 6, 2017.

6. SWN Production Company, LLC, Pad ID: Warner Pad, ABR-201204024.R1, New Milford Township, Susquehanna County, Pa.; Consumptive Use of Up to 4.9990 mgd; Approval Date: March 6, 2017.

7. SWN Production Company, LLC, Pad ID: Charles Pad, ABR-201204013.R1, Jackson Township, Susquehanna County, Pa.; Consumptive Use of Up to 4.9990 mgd; Approval Date: March 7, 2017.

8. SWN Production Company, LLC, Pad ID: Gaylord Pad, ABR-201204020.R1, Jackson Township, Susquehanna County, Pa.; Consumptive Use of Up to 4.9990 mgd; Approval Date: March 7, 2017.

9. SWN Production Company, LLC, Pad ID: Page Pad, ABR-201204021.R1, Jackson Township, Susquehanna County, Pa.; Consumptive Use of Up to 4.9990 mgd; Approval Date: March 7, 2017.

10. SWN Production Company, LLC, Pad ID: Walker Pad, ABR-201204023.R1, Jackson Township, Susquehanna County, Pa.; Consumptive Use of Up to 4.9990 mgd; Approval Date: March 7, 2017.

11. SWN Production Company, LLC, Pad ID: O'Brien Pad, ABR-201205012.R1, Jackson Township, Susquehanna County, Pa.; Consumptive Use of Up to 4.9990 mgd; Approval Date: March 7, 2017.

12. Chief Oil & Gas, LLC, Pad ID: AMBROSIUS B PAD, ABR-201703002, Wilmot Township, Bradford County, Pa.; Consumptive Use of Up to 2.5000 mgd; Approval Date: March 9, 2017.

13. Chief Oil & Gas, LLC, Pad ID: Taylor Drilling Pad B, ABR-201703003, Lenox Township, Susquehanna County, Pa.; Consumptive Use of Up to 2.5000 mgd; Approval Date: March 9, 2017.

14. SWN Production Company, LLC, Pad ID: Humbert III Pad (RU-9), ABR-201205018.R1, New Milford Township, Susquehanna County, Pa.; Consumptive Use of Up to 4.9990 mgd; Approval Date: March 16, 2017.

15. SWN Production Company, LLC, Pad ID: Scarlet Oaks Pad (RU-38), ABR-201205020.R1, New Milford Township, Susquehanna County, Pa.; Consumptive Use of Up to 4.9990 mgd; Approval Date: March 16, 2017.

16. EXCO Resources (PA), LLC, Pad ID: Dale Bower East Unit Pad, ABR-201202009.R1, Penn Township, Lycoming County, Pa.; Consumptive Use of Up to 8.0000 mgd; Approval Date: March 17, 2017.

17. SWN Production Company, LLC, Pad ID: ASNIP-ABODE, ABR-201202005.R1, Herrick and Orwell Townships, Bradford County, Pa.; Consumptive Use of Up to 4.9990 mgd; Approval Date: March 22, 2017.

18. SWN Production Company, LLC, Pad ID: Glover Pad, ABR-201204019.R1, Thompson Township, Susquehanna County, Pa.; Consumptive Use of Up to 4.9990 mgd; Approval Date: March 22, 2017.

19. Chesapeake Appalachia, LLC, Pad ID: Blueberry Hill, ABR-201209014.R1, Overton Township, Bradford County, Pa.; Consumptive Use of Up to 7.5000 mgd; Approval Date: March 27, 2017.

20. Chief Oil & Gas, LLC, Pad ID: SGL 12 C DRILLING PAD, ABR-201703004, Leroy and Overton Townships, Bradford County, Pa.; Consumptive Use of Up to 2.5000 mgd; Approval Date: March 27, 2017.

21. Chesapeake Appalachia, LLC, Pad ID: Carr, ABR-201209015.R1, Wilmot Township, Bradford County, Pa.; Consumptive Use of Up to 7.5000 mgd; Approval Date: March 29, 2017.

22. Chief Oil & Gas, LLC, Pad ID: Raimo Unit Pad, ABR-201703005, Overton and Monroe Townships, Bradford County, Pa.; Consumptive Use of Up to 2.5000 mgd; Approval Date: March 29, 2017.

23. SWN Production Company, LLC, Pad ID: NR-10 POWELL Pad, ABR-201703006, Great Bend Township, Susquehanna County, Pa.; Consumptive Use of Up to 4.9990 mgd; Approval Date: March 29, 2017.

24. Cabot Oil & Gas Corporation Pad ID: TsourousA P1, ABR-201703007, Jessup Township, Susquehanna County, Pa.; Consumptive Use of Up to 5.0000 mgd; Approval Date: March 29, 2017.

25. Chief Oil & Gas, LLC, Pad ID: L. KINGSLEY NORTH UNIT PAD, ABR-201703008, Overton Township, Bradford County, Pa.; Consumptive Use of Up to 2.5000 mgd; Approval Date: March 29, 2017.

26. SWEPI, LP, Pad ID: Kreitzer 505, ABR-201202030.R1, Rutland Township, Tioga County, Pa.; Consumptive Use of Up to 4.0000 mgd; Approval Date: March 29, 2017.

27. Range Resources—Appalachia, LLC, Pad ID: Porter, Stephen, ABR-201203028.R1, Cogan House Township, Lycoming County, Pa.; Consumptive Use of Up to 1.0000 mgd; Approval Date: March 29, 2017.

28. Range Resources—Appalachia, LLC, Pad ID: Roaring Run Unit, ABR-201203029.R1, Cogan House Township, Lycoming County, Pa.; Consumptive Use of Up to 1.0000 mgd; Approval Date: March 29, 2017.

29. SWN Production Company, LLC, Pad ID: Wilkes Well Pad, ABR-201202029.R1, Silver Lake Township, Susquehanna County, Pa.; Consumptive Use of Up to 4.0000 mgd; Approval Date: March 30, 2017.

30. SWN Production Company, LLC, Pad ID: Preston-Perkins, ABR-201204025.R1, Stevens Township, Bradford County, Pa.; Consumptive Use of Up to 4.9990 mgd; Approval Date: March 30, 2017.

31. Chesapeake Appalachia, LLC, Pad ID: Yencha, ABR-201209012.R1, Monroe Township, Bradford County, Pa.; Consumptive Use of Up to 7.5000 mgd; Approval Date: March 31, 2017.

32. JKLM Energy, LLC, Pad ID: Headwaters 142, ABR-201703009, Ulysses Township, Potter County, Pa.; Consumptive Use of Up to 3.5500 mgd; Approval Date: March 31, 2017.

Authority: Pub. L. 91-575, 84 Stat. 1509 et seq., 18 CFR parts 806, 807, and 808.

Dated: April 18, 2017.
Stephanie L. Richardson,
Secretary to the Commission.

[FR Doc. 2017-08089 Filed 4-20-17; 8:45 am]

BILLING CODE 7040-01-P